DEPARTMENT OF THE INTERIOR

Bureau of Land Management

[Docket No. ID-080-1220-PA]

Upper Columbia-Salmon Clearwater Districts, Idaho; Notice of Closure and Restriction Order for BLM Lands in Fiddle Creek Area

AGENCY: Bureau of Land Management, Upper Columbia-Salmon Clearwater Districts, Idaho.

ACTION: Notice of Closure and Restriction Order for BLM Lands in Fiddle Creek Area, Order No. ID-080-23.

SUMMARY: By order, the following closures and restrictions apply to the area known as “Fiddle Creek,” described as all public land administered by the Bureau of Land Management in T.25N., R.1E., sections 22, 23, and 27, Idaho County, Idaho.

(1) Camping is prohibited.

(2) The possession or consumption of alcoholic beverages by persons under the age of 21 is prohibited.

(3) The area is closed to all use from 8:00 p.m. to 6:00 a.m.

For the purpose of this closure, camping is defined as erecting a tent or shelter, preparing a sleeping bag or other bedding material for use, parking a motor vehicle, motor home or trailer for the apparent purpose of overnight occupancy.

The authority for establishing these closures and restrictions is Title 43, Code of Federal Regulations, Section 8364.1.

The closures and restrictions are in effect from April 14, 2000 through April 17, 2000.

The closures and restrictions do not apply to:

(1) Any Federal, State, or local law enforcement, rescue or the fire fighting force while in the performance of an official duty.

(2) Any Bureau of Land Management employee, agent, or contractor while in the performance of an official duty.

The closures and restrictions are necessary to protect persons, property, public lands and resources. Persons abusing alcohol cause a public disturbance, particularly at night, and create a risk to other persons on public lands.

Violation of this order is punishable by a fine not to exceed $1,000 and/or imprisonment not to exceed one year.

FOR FURTHER INFORMATION CONTACT: Greg Yuncevich, Area Manager, Bureau of Land Management, Cottonwood Field Office, Route 3, Box 181, Cottonwood, ID 83522.

Dated: March 2, 2000.
Ted Graf,
Acting District Manager.

[FR Doc. 00-6527 Filed 3-15-00; 8:45 am]

BILLING CODE 4310-GG-M